NATIONAL LABOR RELATIONS BOARD
Sunshine Act Meeting

AGENCY:
National Labor Relations Board.

TIME AND DATE:
10 a.m., Tuesday, January 27, 2004.

PLACE:
Board Conference Room, Eleventh Floor, 1099 Fourteenth St., NW., Washington, DC 20570.

STATUS:
Closed to public observation pursuant to 5 U.S.C. Section 552b(c)(2) (internal personnel rules and practices).

MATTERS TO BE CONSIDERED:
Internal Matters and Collective Bargaining Matters.

FOR FURTHER INFORMATION CONTACT:
Lester A. Heltzer, Executive Secretary, Washington, DC 20570, Telephone: (202) 273-1067.

Dated, Washington, DC., January 29, 2004.

By direction of the Board.
Lester A. Heltzer,
Executive Secretary, National Labor Relations Board.

[FR Doc. 04-2080 Filed 1-28-04; 3:31 pm]
BILLING CODE 7545-01-M